DEPARTMENT OF HOMELAND SECURITY

48 CFR Parts 3001, 3002, 3003, 3006, 3011, 3016, 3017, 3022, 3023, 3024, 3027, 3028, 3031, 3035, 3042, 3052, and 3053.

RIN 1601-AA16

Revision of Department of Homeland Security Acquisition Regulation; Technical Amendments.

AGENCY: Department of Homeland Security.

ACTION: Final rule.

SUMMARY: This document makes amendments to the Department of Homeland Security Acquisition Regulation (HSAR) to delete any reference to the term “Organizational Elements”, and to use instead, the term, “Components” in accordance with internal Department of Homeland Security (DHS) changes. These changes are technical amendments and make no substantive changes to the regulation.

DATES: This rule is effective on August 22, 2006.

FOR FURTHER INFORMATION CONTACT: Kathy Strouss, Office of the Chief Procurement Officer, Department of Homeland Security: (202) 447-5300.

SUPPLEMENTARY INFORMATION:

I. Background

The Department of Homeland Security recently updated the organizational structure nomenclatures by revising the term “Organizational Element” and replacing it with “Component”. This is an internal Department organizational change not requiring public comment. This technical amendment addresses the change in nomenclature for the HSAR published as an Interim rule, (68 FR 67867), and the Final rule (71 FR 25759) by including the present terminology for the Department. In addition, there are a few other minor editorial corrections to the HSAR.

List of Subjects in 48 CFR Parts 3001, 3002, 3003, 3006, 3011, 3016, 3017, 3022, 3023, 3024, 3027, 3028, 3031, 3035, 3042, 3052, and 3053

Government procurement.

Dated: August 11, 2006.
Elaine C. Duke,
Chief Procurement Officer.

Accordingly, DHS amends 48 CFR 3001, 3002, 3003, 3006, 3011, 3016, 3017, 3022, 3023, 3024, 3027, 3028, 3031, 3035, 3042, 3052, and 3053 as follows:

1. The authority citation for 48 CFR parts 3001, 3002, 3003, 3006, 3011, 3016, 3017, 3022, 3023, 3024, 3027, 3028, 3031, 3035, 3042, 3052, and 3053 continues to read as follows:

Authority: 41 U.S.C. 418b(a) and (b).

PART 3001—FEDERAL ACQUISITION REGULATION SYSTEM

2. Amend § 3001.105-2 by revising paragraph (a) to read as follows:

3001.105-2 Arrangement of regulations.

(a) General. The HSAR, which encompasses both Department-wide and Component-unique guidance, conforms to the arrangement and numbering system prescribed by (FAR) 48 CFR 1.105-2. Guidance that is unique to a Component contains the organization's acronym or abbreviation directly following the title. The following acronyms apply:

Bureau of Customs and Border Protection (CBP);

Bureau of Immigration and Customs Enforcement (ICE);

DHS Office of Procurement Operations (OPO);

Federal Emergency and Management Agency (FEMA) (includes all elements of the Emergency Preparedness and Response Directorate);

Federal Law Enforcement Training Center (FLETC);

Transportation Security Administration (TSA);

U.S. Coast Guard (USCG); and

U.S. Secret Service (USSS).

3001.301 [Amended]

3. Amend § 3001.301 as follows:

a. In paragraph (a)(1) in the third sentence by removing “Organizational Element (OE)” and adding “Component” in its place.

b. In paragraph (a)(2)(i) in the last sentence by removing “OE” and adding “Component” in its place.

3001.301-70 [Amended]

4. Amend § 3001.301-70(b) introductory text in the first sentence by removing “OEs” and adding “Components” in its place.

3001.303 [Amended]

5. Amend § 3001.303 as follows:

a. In paragraph (a)(5) in the first sentence by removing “Organizational Element” and adding “Component” in its place.

b. In paragraph (a)(7) in the first sentence by removing “OE” and adding “Component” in its place.

3001.304 [Amended]

6. Amend § 3001.304 by revising paragraph (a) to read as follows:

3001.304 Agency control and compliance procedures.

(a) The HSAR is under the direct oversight and control of the Homeland Security, Office of the Chief Procurement Officer (OCPO), which is responsible for evaluation, review, and issuance of all Department-wide acquisition regulations and guidance. Each HCA may supplement the HSAR with Component guidance. Supplementation should be kept to a minimum. Components proposing to issue regulatory supplements or use solicitation or contract clauses on a repetitive basis must obtain legal review by the Component's legal counsel and forward supplements to the CPO for concurrence prior to publication in the Federal Register.

* * * * *

3001.403 [Amended]

7-8. Amend § 3001.403 by removing the words “(HSAR) 48 CFR 3001.7000(a)” and adding in their place the words “(HSAR) 48 CFR 3001.7000.”

PART 3002—DEFINITIONS OF WORDS AND TERMS

3002.101 [Amended]

9. Amend § 3002.101 by revising the definition for “Chief of the Contracting Office (COCO)”, “Contracting activity”, “Head of the Contracting Activity”, and “Head of the Agency”, removing “Organizational Element (OE)”, and adding “Component” and “Legal Counsel”, to read as follows:

3002.101 Definitions.

* * * * *

Chief of the Contracting Office (COCO) means the individual(s) responsible for managing the contracting office(s) within a Component.

* * * * *

Component means the following entities for purposes of this chapter:

(1) Bureau of Customs and Border Protection (CBP);

(2) Bureau of Immigration and Customs Enforcement (ICE);

(3) DHS Office of Procurement Operations (OPO);

(4) Federal Emergency Management Agency (FEMA) (Includes all elements of the Emergency Preparedness and Response Directorate);

(5) Federal Law Enforcement Training Center (FLETC);

(6) Transportation Security Administration (TSA); (TSA is exempt from the HSAR and HSAM according to the “Aviation and Transportation Security Act of 2001”);

(7) U.S. Coast Guard (USCG); and

(8) U.S. Secret Service (USSS).

Contracting activity includes all the contracting offices within a Component and is the same as the term “procuring activity.”

* * * * *

Head of the Agency means the Secretary of the Department of Homeland Security, or, by delegation, the Under Secretary of Management.

Head of the Contracting Activity (HCA) means the individual responsible for direct management of the entire acquisition function within a Component.

Legal counsel means the Department of Homeland Security Office of General Counsel or Component office providing legal services to the contracting organization.

* * * * *

3002.270 [Amended]

10. Amend § 3002.270 by removing “OE Organizational Element.”

PART 3003—IMPROPER BUSINESS PRACTICES AND PERSONAL CONFLICTS OF INTEREST

3003.203 [Amended]

11. Amend § 3003.203(b) in the second sentence by removing “OE” and adding “the Component” in its place.

PART 3006—COMPETITION REQUIREMENTS

3006.101-70 [Amended]

12. In § 3006.101-70 amend the definition for “Competition advocate for the procuring activity” by removing “Organization Element (OE)” and adding “Component” in its place.

PART 3011—Describing Agency Needs

3011.602 [Amended]

13. Amend § 3011.602(c) introductory text by removing “OEs” and adding “Components” in its place.

PART 3016—TYPES OF CONTRACTS

3016.505 [Amended]

14. Amend § 3016.505 by removing “OE” and adding “Component” in its place in paragraphs (b)(5), (b)(5)(i), and (ii).

PART 3017—SPECIAL CONTRACTING METHODS

15. Amend § 3017.402 by removing the words “(HSAR) 48 CFR 3001.7000(a)” and adding in their place the words “(HSAR) 48 CFR 3001.7000.”

PART 3022—APPLICATION OF LABOR LAWS TO GOVERNMENT ACQUISITIONS

3022.101-70 [Amended]

16. Amend § 3022.101-70 as follows:

a. In paragraph (a) in the first sentence by removing “Organizational Elements” and adding “Components” in its place.

b. In paragraph (b) in the first sentence by removing “OE” and adding “Component” in its place.

PART 3023—ENVIRONMENT, CONSERVATION, OCCUPATIONAL SAFETY, AND DRUG-FREE WORKPLACE

3023.501 [Amended]

17. Amend § 3023.501(d) by removing “Organizational Element” and adding “Component” in its place.

3023.506 [Amended]

18. Amend § 3023.506(e) by removing the words “(HSAR) 48 CFR 3001.7000(b)” and adding in their place the words “(HSAR) 48 CFR 3001.7000.”

PART 3024—PROTECTION OF INDIVIDUAL PRIVACY

3024.203 [Amended]

19. Amend § 3024.203(a) in the second sentence by removing “Organizational Element” and adding “Component” in its place.

PART 3027—Patents, Data and Copyrights

3027.205 [Amended]

20. Amend § 3027.205(a) in the first sentence by removing “OE” and adding “Component” in its place.

PART 3028—BONDS AND INSURANCE

3028.106-6 [Amended]

21. Amend § 3028.106-6(c) in the second sentence by removing “OE” and adding “Component” in its place.

PART 3031—CONTRACT COST PRINCIPLES AND PROCEDURES

3031.205-32 [Amended]

22. Amend § 3031.205-32(a) by removing the words “(HSAR) 48 CFR 3032.205-32(b)” and adding in their place the words “(HSAR) 48 CFR 3031.205-32(b).”

PART 3035—RESEARCH AND DEVELOPMENT CONTRACTING

3035.003 [Amended]

23. Amend § 3035.003(b) in the last sentence by removing “OEs” and adding “Components” in its place.

3035.017 [Amended]

24. Amend § 3035.017(a) in the last sentence by removing “OEs” and adding “Components” in its place.

PART 3042—CONTRACT ADMINISTRATION AND AUDIT SERVICES

3042.1502 [Amended]

25. Amend § 3042.1502(a) by removing “OEs” and adding “Components” in its place.

PART 3052—SOLICITATION PROVISIONS AND CONTRACT CLAUSES

3052.101 [Amended]

26. Amend § 3052.101 as follows:

a. In paragraph (b)(2)(i)(A), in the second sentence, by removing “OEs” and adding “Components” in its place.

b. In paragraph (b)(2)(i)(B), in the first sentence, by removing “OE” and adding “Component” in its place.

3052.204-70 [Amended]

27. Amend § 3052.204-70(d) in the last sentence by removing “Organizational elements” and adding “Components” in its place.

3052.204-71 [Amended]

28. Amend § 3052.204-71, ALTERNATE I as follows:

a. In paragraph (i) in the first sentence by removing “OE” and adding “Component” in its place.

b. In paragraph (k) in the first sentence by removing “Organizational Element” and adding “Component” in its place.

PART 3053—FORMS

3053.101 [Amended]

29. Amend § 3053.101 by removing “OEs” and adding “Components” in its place.

[FR Doc. 06-7035 Filed 8-21-06; 8:45 am]

BILLING CODE 4410-10-P